FEDERAL HOUSING FINANCE BOARD

12 CFR Part 908

[No. 2002-03]

RIN 3069-AB03

Rules of Practice and Procedure

Correction

In rule document 02-5094 beginning on page 9897 in the issue of March 5, 2002, make the following correction:

§ 908.61 [Corrected]

On page 9915, in the third column, in § 908.61, paragraph (c)(2), in the seventh line, “institution's” should read “institutions”.

[FR Doc. C2-5094 Filed 5-15-02; 8:45 am]

BILLING CODE 1505-01-D

DEPARTMENT OF JUSTICE

[AAG/A Order No. 264-2002]

Privacy Act of 1974; System of Records

Correction

In notice document 02-10398 beginning on page 20996 in the issue of Monday April 29, 2002, make the following correction:

On page 20996, in the third column, after the fourth full paragraph, the heading is corrected to read as follows:“ROUTINE USES OF RECORDS MAINTAINED IN THE SYSTEM, INCLUDING CATEGORIES OF USERS AND THE PURPOSES OF SUCH USES:”.

[FR Doc. C2-10398 Filed 5-15-02 ; 8:45 am]

BILLING CODE 1505-01-D

DEPARTMENT OF TRANSPORTATION

Federal Aviation Administration

14 CFR Part 71

[Airspace Docket No. 01-AGL-11]

Modification of Class E Airspace; Manistee, MI

Correction

In rule document 02-11498 beginning on page 30782 in the issue of Wednesday, May 8, 2002, make the following corrections:

§ 71.1 [Corrected]

1. On page 30783, in the second column, in § 71.1, under the heading AGL MI E5 Manistee, MI [Revised], in the second line, “(Lat. 44°16′21″N., long. 86°14′15″W.)” should be removed.

2. On the same page, in the same column, in the same section, under the heading AGL MI E5 Manistee, MI [Revised], in the 10th line, “385°” should read, “285°”.

[FR Doc. C2-11498 Filed 5-15-02; 8:45 am]

BILLING CODE 1505-01-D